DEPARTMENT OF JUSTICE

Office of Justice Programs

[OJP (NIJ) Docket No. 1743]

Request for Public Comment on Proposed Specification Threat Levels and Associated Ammunition To Test Equipment Intended To Protect U.S. Law Enforcement Against Handguns and Rifles

AGENCY: National Institute of Justice, Justice.

ACTION: Notice.

SUMMARY: The National Institute of Justice (NIJ) seeks feedback from the public on a proposed specification of the threat levels and associated ammunition intended for use with voluntary NIJ Standards that specify a minimum performance requirement for U.S. law enforcement equipment intended to protect against handgun and rifle ammunition. This document defines ballistic threats identified by U.S. law enforcement as representative of prevalent threats in the United States.

DATES: Comments must be received by 5 p.m. Eastern Time on May 23, 2018.

HOW TO RESPOND AND WHAT TO INCLUDE: The draft document can be found here: https://www.nij.gov/body-armor. The draft document is available in both Word and pdf formats. To submit comments, NIJ encourages commenters to fill out the comment template and send it in an email to the contact listed below with “Draft NIJ Specification of Threat Levels and Ammunition” in the subject line. Please provide contact information with the submission of comments. All materials submitted are subject to public release under the Freedom of Information Act, and will be shared with U.S. Government staff or U.S. Government contractors for evaluation purposes to revise the draft document. Comments generally should not include any sensitive personal information or commercially confidential information. If you wish to voluntarily submit confidential commercial information, but do not want it to be publicly released, you must mark that information prominently as “CONFIDENTIAL COMMERCIAL INFORMATION” and NIJ will, to the extent permitted by law, withhold such information from public release.

FOR FURTHER INFORMATION CONTACT: Mark Greene, Policy and Standards Division Director, Office of Science and Technology, National Institute of Justice, 810 7th Street NW, Washington, DC 20531; telephone number: (202) 307-3384; email address: mark.greene2@usdoj.gov.

SUPPLEMENTARY INFORMATION: The proposed specification Threat Levels and Associated Ammunition to Test Equipment Intended to Protect U.S. Law Enforcement Against Handguns and Rifles is incorporated by reference into a proposed revision of NIJ Standard 0101.06, Ballistic Resistance of Body Armor, which can be found at https://www.nij.gov/body-armor. NIJ anticipates publishing the final version of the proposed specification document in late 2018. For more information on NIJ's voluntary standards, please visit https://www.nij.gov/standards. For more information on body armor, please visit https://www.nij.gov/body-armor and https://www.policearmor.org.

David B. Muhlhausen,
Director, National Institute of Justice.

[FR Doc. 2018-03672 Filed 2-21-18; 8:45 am]

BILLING CODE 4410-18-P